DEPARTMENT OF COMMERCE

International Trade Administration

[C-570-971]

Multilayered Wood Flooring From the People's Republic of China: Notice of Court Decision Not in Harmony With the Results of Countervailing Duty Administrative Review; Notice of Amended Final Results

AGENCY: Enforcement and Compliance, International Trade Administration, Department of Commerce.

SUMMARY: On September 11, 2025, the U.S. Court of International Trade (CIT) issued its final judgment in Jiangsu Senmao Bamboo and Wood Industry Co., Ltd. et al. v. United States, Consol. Court No. 20-03885, sustaining the U.S. Department of Commerce (Commerce)'s remand results pertaining to the administrative review of the countervailing duty (CVD) order on multilayered wood flooring from the People's Republic of China (China) covering the period January 1, 2017, through December 31, 2017. Commerce is notifying the public that the CIT's final judgment is not in harmony with Commerce's final results of the administrative review, and that Commerce is amending the final results with respect to the countervailable subsidy rate assigned to Jiangsu Senmao Bamboo Wood Industry Co., Ltd. (Jiangsu Senmao), Riverside Plywood Corporation (Riverside Plywood) and its cross-owned affiliate Baroque Timber Industries (Zhongshan) Co., Ltd. (Baroque Timber), and the non-selected companies under review. Commerce is not amending the final results with respect to the countervailable subsidy rate assigned to Jiangsu Guyu International Trading Co., Ltd. (Jiangsu Guyu).

DATES: Applicable September 21, 2025.

FOR FURTHER INFORMATION CONTACT: Jonathan Schueler or Laurel Smalley, AD/CVD Operations, Office VIII, Enforcement and Compliance, International Trade Administration, U.S. Department of Commerce, 1401 Constitution Avenue NW, Washington, DC 20230; telephone: (202) 482-9175 or (202) 482-3456, respectively.

SUPPLEMENTARY INFORMATION:

Background

On November 27, 2020, Commerce published its Final Results in the 2017 CVD administrative review of multilayered wood flooring from China.¹ Commerce selected Baroque Timber and Jiangsu Guyu as mandatory respondents and denied Jiangsu Senmao's request for voluntary respondent treatment.² Commerce additionally included Harmonized System (HS) code 4412.99 in its benchmark calculation under the provision of plywood for less than adequate remuneration (LTAR) program and applied the calculated benchmark under the provision of veneers for LTAR program to Jiangsu Guyu's purchases of poplar core sheet during the POR.³

¹ See Multilayered Wood Flooring from the People's Republic of China: Final Results and Partial Rescission of Countervailing Duty Administrative Review; 2017, 85 FR 76011 (November 27, 2025) (Final Results), and accompanying Issues and Decision Memorandum (IDM).

² Id. at Comment 1.

³ Id. at Comments 3 and 6.

Jiangsu Senmao Bamboo and Wood Industry Co., Ltd. et al. appealed Commerce's Final Results. On August 11, 2022, the U.S. Court of International Trade (CIT) remanded the Final Results to Commerce, ordering Commerce to reconsider its selection of mandatory respondents for individual examination and its calculation of the rate for non-selected companies, deferring the Court's examination of the remaining issues challenging the Final Results until Commerce's respondent selection had been reconsidered.⁴ Commerce clarified its analysis concerning respondent selection and the use of U.S. Customs and Border Protection data as a basis for selecting mandatory respondents for individual examination, and on this basis deselected Jiangsu Guyu as a mandatory respondent under individual examination.⁵

⁴ See Jiangsu Senmao Bamboo and Wood Industry Co., Ltd. et al. v. United States, 589 F. Supp. 3d 1195 (CIT 2022) (First Remand Opinion and Order).

⁵ See Final Results of Redetermination Pursuant to Court Remand, Jiangsu Senmao Bamboo and Wood Industry Co., Ltd. et al. v. United States, Consol. Court No. 20-03885, Slip Op. 22-93 (CIT 2022), dated December 7, 2022, available at https://access.trade.gov/resources/remands/22-93.pdf.

On February 14, 2023, the CIT granted Commerce's motion to voluntarily consider the implications of the U.S. Court of Appeals for the Federal Circuit's YC Rubber ⁶ determination on Commerce's respondent selection methodology and rate calculation of the companies not under individual examination in this review.⁷ In the Second Remand Results, Commerce further explained its respondent selection methodology, continuing to select Baroque Timber as a mandatory respondent under individual examination and apply the individually calculated rate of Baroque Timber to all non-individually examined companies under review.⁸

⁶ See YC Rubber Co. (N. Am.) LLC v. United States, No. 2021-1489 (Fed. Circ. Aug. 29, 2022) (YC Rubber).

⁷ See Jiangsu Senmao Bamboo and Wood Industry Co., Ltd. et al. v. United States, Consol. Court No. 20-03885, February 14, 2023 (ECF 114).

⁸ See Final Results of Redetermination Pursuant to Court Remand, Jiangsu Senmao Bamboo and Wood Industry Co., Ltd. et al. v. United States, Consol. Court No. 20-03885, Remand (CIT 2023), dated March 31, 2023 (Second Remand Results), available at https://access.trade.gov/resources/remands/20-03885.pdf.

On March 24, 2025, the CIT issued its Third Remand Opinion and Order, concluding that Commerce's reconsideration of its respondent selection methodology and rate calculation for the companies not individually examined was inconsistent with YC Rubber, and ordering Commerce to select Jiangsu Senmao for examination and re-calculate the all-others rate based on more than one respondent.⁹ The CIT additionally ordered Commerce to reconsider its benefit calculations for the provision of plywood and veneers for LTAR programs, originally deferred in the First Remand Opinion and Order.¹⁰

⁹ See Jiangsu Senmao Bamboo and Wood Industry Co., Ltd. et al. v. United States, Consol. Court No. 20-03885, Slip Op. 25-28, 769 F.Supp.3d 1344 (March 24, 2025) (Third Remand Opinion and Order).

¹⁰ Id.

In its final remand redetermination, issued on August 8, 2025, Commerce examined Jiangsu Senmao as a mandatory respondent in the underlying administrative review and reconsidered the benchmark calculations for the provision of plywood and veneer for LTAR programs, further revising the rate for non-examined companies under review to be based on the individually calculated rates for Baroque Timber and Jiangsu Senmao.¹¹ The CIT sustained Commerce's final remand redetermination in full.¹²

¹¹ See Final Results of Remand Redetermination Pursuant to Court Remand, Jiangsu Senmao Bamboo and Wood Industry Co., Ltd. et al. v. United States, Consol. Court No. 20-03885, Slip. Op. 25-28 (CIT March 24, 2025) (Final Remand Redetermination), available at https://access.trade.gov/public/FinalRemandRedetermination.

¹² See Jiangsu Senmao Bamboo and Wood Industry Co., Ltd. et al. v. United States, Consol. Court No. 20-03885, Slip Op. 25-28 (September 11, 2025).

Timken Notice

In its decision in Timken,¹³ as clarified by Diamond Sawblades,¹⁴ the U.S. Court of Appeals for the Federal Circuit held that, pursuant to sections 516A(c) and (e) of the Act, Commerce must publish a notice of court decision that is not “in harmony” with a Commerce determination and must suspend liquidation of entries pending a “conclusive” court decision. The CIT's September 11, 2025, judgment constitutes a final decision of the CIT that is not in harmony with Commerce's Final Results. Thus, this notice is published in fulfillment of the publication requirements of Timken.

¹³ See Timken Co. v. United States, 893 F.2d 337 (Fed. Cir. 1990) (Timken).

¹⁴ See Diamond Sawblades Manufacturers Coalition v. United States, 626 F.3d 1374 (Fed. Cir. 2010) (Diamond Sawblades).

Amended Final Results

Because there is now a final court judgment, Commerce is amending its Final Results with respect to Jiangsu Senmao, Riverside Plywood and the non-selected companies under review as follows:

¹⁵ Cross-owned affiliate are Baroque Timber and Suzhou Times Flooring Co., Ltd.

¹⁶ Based on the final remand redetermination, the total ad valorem subsidy rate assigned to Jiangsu Guyu remains the same as the rate assigned in the Final Results. See Second Remand Results.

¹⁷ The non-selected companies to which this rate applies are listed in Appendix II.

Producer/exporter | Subsidy rate (percent ad valorem)
Riverside Plywood Corporation and Its Cross-Owned Affiliates ¹⁵ | 13.18
Jiangsu Senmao Bamboo Wood Industry Co., Ltd | 2.45
Jiangsu Guyu International Trading Co., Ltd | ¹⁶ 122.94
Non-selected companies under review ¹⁷ | 10.02

Cash Deposit Requirements

Commerce will issue revised cash deposit instructions to U.S. Customs and Border Protection (CBP). Because the companies listed in Appendix I of this notice have a superseding cash deposit rate, i.e., there have been final results published in a subsequent administrative review, we will not issue revised cash deposit instructions to CBP. This notice will not affect the current cash deposit rate for those exporters/producers. For Houzhou Chenchang Wood Co., Ltd., Shenzhenshi Huanwei Woods Co., Ltd., and Zhejiang Biyork Wood Co., Ltd., which do not have superseding cash deposit rates, Commerce will issue revised cash deposit instructions to CBP.

Liquidation of Suspended Entries

At this time, Commerce remains enjoined by the CIT order from liquidating entries that: were produced and/or exported by Riverside Plywood Corporation, including its cross-owned affiliates; Jiangsu Senmao Bamboo Wood Industry Co., Ltd.; and the companies listed in Appendix II of this notice, and were entered, or withdrawn from warehouse, for consumption during the period January 1, 2017, through December 31, 2017. These entries will remain enjoined pursuant to the terms of the injunction during the pendency of any appeals process.

In the event the CIT's ruling is not appealed or, if appealed, upheld by a final and conclusive court decision, Commerce intends to instruct CBP to assess countervailing duties on unliquidated entries of subject merchandise produced and/or exported by the companies listed in Appendix II of this notice in accordance with 19 CFR 351.212(b). We will instruct CBP to assess countervailing duties on all appropriate entries covered by this review when the ad valorem rate is not zero or de minimis. Where an ad valorem subsidy rate is zero or de minimis,¹⁸ we will instruct CBP to liquidate the appropriate entries without regard to countervailing duties.

¹⁸ See 19 CFR 351.106(c)(2).

Notification to Interested Parties

This notice is issued and published in accordance with sections 516A(c) and (e) and 777(i)(1) of the Act.

Dated: September 17, 2025.
Christopher Abbott,
Deputy Assistant Secretary for Policy and Negotiations, performing the non-exclusive functions and duties of the Assistant Secretary for Enforcement and Compliance.

Appendix I

List of Companies With Superseding Cash Deposit Requirements

1. Baroque Timber Industries (Zhongshan) Co., Ltd.

2. Dalian Jiahong Wood Industry Co., Ltd.

3. Dalian Penghong Floor Products Co., Ltd.

4. Dalian Qianqiu Wooden Product Co., Ltd.

5. Dalian Shumaike Floor Manufacturing Co., Ltd.

6. Dongtai Fuan Universal Dynamics, LLC

7. Dunhua City Jisen Wood Industry Co., Ltd.

8. Fine Furniture (Shanghai) Limited

9. Fusong Jinlong Wooden Group Co., Ltd.

10. Fusong Jinqiu Wooden Product Co., Ltd.

11. Fusong Qianqiu Wooden Product Co., Ltd.

12. Jiangsu Guyu International Trading Co., Ltd.

13. Jiangsu Keri Wood Co., Ltd.

14. Jiangsu Senmao Bamboo and Wood Industry Co., Ltd.

15. Jiangsu Simba Flooring Co., Ltd.

16. Jiashan Huijiale Decoration Material Co., Ltd.

17. Kemian Wood Industry (Kunshan) Co., Ltd.

18. Linyi Anying Wood Co., Ltd.

19. Linyi Youyou Wood Co., Ltd.

20. Metropolitan Hardwood Floors, Inc.

21. Pinge Timber Manufacturing (Zhejiang) Co., Ltd.

22. Riverside Plywood Corporation

23. Scholar Home (Shanghai) New Material Co. Ltd.

24. Sino-Maple (Jiangsu) Co., Ltd.

25. Sino Maple (Jiangsu) Co., Ltd. (formerly known as Jiafeng Wood (Suzhou) Co., Ltd.)

26. Tongxiang Jisheng Import and Export Co., Ltd.

27. Zhejiang Dadongwu GreenHome Wood Co., Ltd.

28. Zhejiang Jiechen Wood Industry Co., Ltd.

Appendix II

List of Companies Subject to These Amended Final Results

1. Baroque Timber Industries (Zhongshan) Co., Ltd.

2. Dalian Jiahong Wood Industry Co., Ltd.

3. Dalian Penghong Floor Products Co., Ltd.

4. Dalian Qianqiu Wooden Product Co., Ltd.

5. Dalian Shumaike Floor Manufacturing Co., Ltd.

6. Dongtai Fuan Universal Dynamics, LLC

7. Dunhua City Jisen Wood Industry Co., Ltd.

8. Fine Furniture (Shanghai) Limited

9. Fusong Jinlong Wooden Group Co., Ltd.

10. Fusong Jinqiu Wooden Product Co., Ltd.

11. Fusong Qianqiu Wooden Product Co., Ltd.

12. Houzhou Chenchang Wood Co., Ltd.

13. Jiangsu Guyu International Trading Co., Ltd.

14. Jiangsu Keri Wood Co., Ltd.

15. Jiangsu Senmao Bamboo and Wood Industry Co., Ltd.

16. Jiangsu Simba Flooring Co., Ltd.

17. Jiashan Huijiale Decoration Material Co., Ltd.

18. Kemian Wood Industry (Kunshan) Co., Ltd.

19. Linyi Anying Wood Co., Ltd.

20. Linyi Youyou Wood Co., Ltd.

21. Metropolitan Hardwood Floors, Inc.

22. Pinge Timber Manufacturing (Zhejiang) Co., Ltd.

23. Riverside Plywood Corporation

24. Scholar Home (Shanghai) New Material Co. Ltd.

25. Shenzhenshi Huanwei Woods Co., Ltd.

26. Sino-Maple (Jiangsu) Co., Ltd.

27. Sino Maple (Jiangsu) Co., Ltd. (formerly known as Jiafeng Wood (Suzhou) Co., Ltd.)

28. Tongxiang Jisheng Import and Export Co., Ltd.

29. Zhejiang Biyork Wood Co., Ltd.

30. Zhejiang Dadongwu GreenHome Wood Co., Ltd.

31. Zhejiang Jiechen Wood Industry Co., Ltd.

[FR Doc. 2025-18401 Filed 9-22-25; 8:45 am]

BILLING CODE 3510-DS-P